ENVIRONMENTAL PROTECTION AGENCY

40 CFR Part 52

[EPA-R03-OAR-2017-0152; FRL-9981-05—Region 3]

Approval and Promulgation of Air Quality Implementation Plans; Delaware; Interstate Transport Requirements for the 2012 Fine Particulate Matter Standard; Correction

AGENCY: Environmental Protection Agency (EPA).

ACTION: Final rule; correction.

SUMMARY: This document corrects an error in the amendatory language of a final rule pertaining to EPA's approval of a state implementation plan (SIP) revision submitted by Delaware to address the infrastructure requirements for interstate transport of pollution with respect to the 2012 fine particulate (PM2.5) national ambient air quality standards (NAAQS).

DATES: Effective August 13, 2018.

FOR FURTHER INFORMATION CONTACT: Joseph Schulingkamp, (215) 814-2021 or by email at schulingkamp.joseph@epa.gov.

SUPPLEMENTARY INFORMATION: On July 12, 2018 (83 FR 32209), EPA published a final rulemaking action approving Delaware's December 14, 2015 SIP revision addressing the interstate transport requirements for the 2012 PM2.5 NAAQS. In the published document appearing on page 32211, EPA inadvertently directed amendments to be published to 40 CFR 52.470. The correct section for the state of Delaware is 40 CFR 52.420.

EPA does not expect adverse comments on this action.

In FR Doc. 2018-14838 appearing on page 32209 in the Federal Register of Thursday, July 12, 2018, the following correction is made:

§ 52.420 [Corrected]

On page 32211, third column, under the heading “Subpart I—Delaware”, the section heading “§ 52.470 Identification of plan.” is corrected to read “§ 52.420 Identification of plan.”.

Dated: July 26, 2018.
Cecil Rodrigues,
Acting Regional Administrator, Region III.

[FR Doc. 2018-16878 Filed 8-7-18; 8:45 am]

BILLING CODE 6560-50-P